FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201430.

Agreement Name: SM Line/Sealead Shipping Slot Exchange Agreement for Empty Containers.

Parties: Sealead Shipping DMCC; SM Line Corporation.

Filing Party: Rebecca Fenneman; Jeffrey/Fenneman Law and Strategy PLLC.

Synopsis: Agreement to swap slots to carry empty containers.

Proposed Effective Date: 06/25/2024.

Location: https://www2.fmc.gov/FMC.Agreements.Web/Public/AgreementHistory/86567.

Agreement No.: 201431.

Agreement Name: CMA CGM/ONE Brazex Service Space Charter Agreement.

Parties: CMA CGM S.A.; Ocean Network Express Pte. Ltd.

Filing Party: Draughn Arbona; CMA CGM S.A.

Synopsis: This Agreement authorizes CMA CGM to charter space to ONE on vessels operated by CMA CGM or on which CMA CGM has space in the Trade between Mexico, Jamaica, Colombia, and Brazil, on one hand, and the U.S. Gulf Coast, on the other hand.

Proposed Effective Date: 06/27/2024.

Location: https://www2.fmc.gov/FMC.Agreements.Web/Public/AgreementHistory/86568.

Dated: July 1, 2024.
Alanna Beck,
Federal Register Alternate Liaison Officer.

[FR Doc. 2024-14704 Filed 7-3-24; 8:45 am]

BILLING CODE 6730-02-P